DEPARTMENT OF EDUCATION

National Technical Advisory Council

AGENCY: Department of Education, Office of Elementary and Secondary Education.

ACTION: Notice of an open meeting.

SUMMARY: This notice announces an open meeting of the National Technical Advisory Council. Notice of the meeting is required by Section 10(a)(2) of the Federal Advisory Committee Act and is intended to notify the public of their opportunity to participate.

DATE AND TIME: Tuesday, September 16, 2008, 10 a.m.-4 p.m.

ADDRESSES: U.S. Department of Education, Barnard Auditorium, 400 Maryland Ave, SW., Washington, DC 20202.

FOR FURTHER INFORMATION CONTACT: Patrick Rooney, Designated Federal Officer, National Technical Advisory Council; 400 Maryland Ave., SW., Room 3W246, Washington, DC 20202; telephone: (202) 401-0113; fax: (202) 260-7764; e-mail: Patrick.Rooney@ed.gov.

SUPPLEMENTARY INFORMATION: The National Technical Advisory Council is authorized by Secretary Margaret Spellings. Established within the Department of Education (Department) to advise the Secretary of Education and the Assistant Secretary of Elementary and Secondary Education (Assistant Secretary) on the design and implementation of standards, assessments, and accountability systems consistent with Federal statutes and regulations.

At the September 16, 2008, meeting, the Committee will discuss Department guidance related to performance indexes, growth models, and the development of new state assessments and their use in accountability systems.

Individuals who will need accommodations for a disability in order to attend the meeting should notify Courtney Merritt at (202) 401-0113, no later than 5 days before the scheduled date of the meeting. We will attempt to meet requests for accommodations after this date but cannot guarantee their availability. There will not be an opportunity for public comment during this meeting.

Records are kept of all Committee proceedings and are available for public inspection at 400 Maryland Ave., SW., Washington, DC 20202, from the hours of 9 a.m. to 5 p.m., Eastern Standard Time Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Kerri L. Briggs,
Assistant Secretary, Office of Elementary and Secondary Education.

[FR Doc. E8-20185 Filed 8-29-08; 8:45 am]

BILLING CODE 4000-01-P